DEPARTMENT OF COMMERCE

National Oceanic and Atmospheric Administration

[I.D. 102102C]

Endangered and Threatened Species; Take of Anadromous Fish

AGENCY: National Marine Fisheries Service (NOAA Fisheries), National Oceanic and Atmospheric Administration (NOAA), Commerce.

ACTION: Issuance of 32 scientific research permit actions.

SUMMARY: Between July 31 and September 27, 2002, NOAA Fisheries' Northwest Region issued 32 permits, permit modifications, and permit amendments allowing endangered and threatened species of Pacific salmon and steelhead to be taken for scientific research purposes under section 10(a)1(A) the Endangered Species Act (ESA) of 1973, as amended. The research actions and the species they affect are listed in the SUPPLEMENTARY INFORMATION section below.

ADDRESSES: The permits, permit applications, and related documents are available for review by appointment at NOAA Fisheries' Protected Resources Division, F/NWO3, 525 NE Oregon Street, Suite 500, Portland, OR 97232-2737 (phone: 503-230-5400, fax: 503-230-5435).

FOR FURTHER INFORMATION CONTACT: Steve Stone, Portland, OR (phone: 503-231-2317, fax: 503-230-5435, e-mail: steve.stone@noaa.gov).

SUPPLEMENTARY INFORMATION:

Authority

The ESA requires that permits, permit modifications, and permit amendments be issued based on a finding that such actions: (1) are applied for in good faith; (2) would not operate to the disadvantage of the listed species that are the subject of the actions; and (3) are consistent with the purposes and policies set forth in section 2 of the ESA. Authority to take listed species is subject to conditions set forth in the permits. Permits, modifications, and amendments are issued in accordance with, and are subject to, the ESA and NOAA Fisheries regulations governing listed fish and wildlife permits (50 CFR parts 222-226).

Species Covered in This Notice

The ESA-listed species/evolutionarily significant units (ESUs) covered by this notice are identified below and listed in the subsequent table by the numbers that precede each of them in the following text:

(1) Puget Sound chinook salmon (Oncorhynchus tshawytscha)

(2) Lower Columbia River chinook salmon

(3) Snake River spring/summer chinook salmon

(4) Snake River fall chinook salmon

(5) Upper Columbia River spring-run chinook salmon

(6) Upper Willamette River chinook salmon

(7) Hood Canal summer-run chum salmon (O. keta)

(8) Columbia River chum salmon

(9) Lower Columbia River steelhead (O. mykiss)

(10) Middle Columbia River steelhead

(11) Snake River steelhead

(12) Upper Willamette River steelhead

(13) Upper Columbia River steelhead

(14) Southern Oregon/Northern California Coasts coho salmon (O. kisutch)

(15) Oregon Coast coho salmon

(16) Snake River sockeye salmon (O. nerka)

(17) Ozette Lake sockeye salmon

Table 1.—Thirty-two Scientific Research Permit Actions Affecting Threatened and Endangered Pacific Salmon and Steelhead
Permit Number | Affected Species/ESU | Permittee | Federal Register Notice of Application Receipt
1135 | 2, 9 | U.S. Geological Survey (USGS) | April 4, 2002 (67 FR 17970)
1140 | 1, 15 | Northwest Fisheries Science Center (NWFSC) | June 11, 2002 (67 FR 39960)
1141 | 5 | Public Utility District No. 2 of Grant County | April 4, 2002 (67 FR 17970)
1156 | 14, 15 | U.S. Environmental Protection Agency | June 11, 2002 (67 FR 39960)
1177 | 14 | Portland District Corps of Engineers | April 4, 2002 (67 FR 17970)
1256 | 6, 15 | Bureau of Land Management | May 16, 2002 (67 FR 34909)
1291 | 16 | USGS | June 25, 2002 (67 FR 42757)
1309 | 1 | King County Department of Natural Resources and Parks (KCDNRP) | June 11, 2002 (67 FR 39960)
1315 | 1 | U.S. Corps of Engineers Seattle District | April 4, 2002 (67 FR 17970)
1317 | 10 | USGS | April 4, 2002 (67 FR 17970) June 25, 2002 (67 FR 42757)
1318 | 2, 6, 9, 12, 15 | Oregon Department of Fish and Wildlife (ODFW) | May 16, 2002 (67 FR 34909)
1322 | 3, 6, 5, 8 | NWFSC | April 4, 2002 (67 FR 17970) June 25, 2002 (67 FR 42757)
1335 | 1, 7, 8, 9, 10 | U.S. Forest Service | May 16, 2002 (67 FR 34909)
1336 | 2, 6, 9, 12, 15 | Port Blakely Tree Farms | May 16, 2002 (67 FR 34909)
1345 | 1, 3, 5, 6, 10, 11, 13 | Washington Department of Fish and Wildlife | May 16, 2002 (67 FR 34909)
1358 | 14 | ODFW | February 22, 2002 (67 FR 8233)
1359 | 14 | ODFW | February 22, 2002 (67 FR 8233)
1362 | 11 | Idaho Cooperative Fish and Wildlife Research Unit | April 4, 2002 (67 FR 17970)
1363 | 3, 11 | Fish Passage Center | April 4, 2002 (67 FR 17970)
1364 | 4,11 | Idaho Fishery Resource Office of the U.S. Fish and Wildlife Service | April 4, 2002 (67 FR 17970)
1365 | 10 | Confederated Tribes of the Umatilla Indian Reservation | April 4, 2002 (67 FR 17970)
1366 | 2, 3, 4, 5, 6, 8, 9 10, 11, 12, 13, 16 | Oregon Cooperative Fish and Wildlife Research Unit | April 4, 2002 (67 FR 17970)
1367 | 10 | NWFSC | April 4, 2002 (67 FR 17970)
1369 | 1 | KCDNRP | April 4, 2002 (67 FR 17970)
1370 | 3 | Utah State University (USU) | April 4, 2002 (67 FR 17970) June 11, 2002 (67 FR 39960)
1371 | 1 | Battelle Marine Sciences Center | April 4, 2002 (67 FR 17970)
1372 | 1 | Puget Sound Energy | April 4, 2002 (67 FR 17970)
1376 | 1 | Washington Cooperative Fish and Wildlife Research Unit | April 4, 2002 (67 FR 17970)
1381 | 1 | City of Bellingham | June 11, 2002 (67 FR 39960)
1382 | 10 | USU | June 11, 2002 (67 FR 39960)
1383 | 1 | USGS | June 11, 2002 (67 FR 39960)
1386 | 1, 2, 3, 4, 5, 7, 8, 9, 10, 11, 13, 17 | Washington Department of Ecology | June 25, 2002 (67 FR 42757)

Dated: October 24, 2002.
Margaret Lorenz,
Acting Chief, Endangered Species Division, Office of Protected Resources, National Marine Fisheries Service.

[FR Doc. 02-27615 Filed 10-29-02; 8:45 am]

BILLING CODE 3510-22-S